DEPARTMENT OF JUSTICE

[OMB Number 1121-0296]

Agency Information Collection Activities; Proposed eCollection eComments Requested; Reinstatement, With Change, of a Previously Approved Collection for Which Approval Has Expired: Census of Medical Examiner and Coroner Offices (CMEC)

AGENCY: Bureau of Justice Statistics, Department of Justice.

ACTION: 30-Day notice.

SUMMARY: The Bureau of Justice Statistics (BJS), Department of Justice (DOJ), will be submitting the following information collection request to the Office of Management and Budget (OMB) for review and approval in accordance with the Paperwork Reduction Act of 1995.

DATES: Comments are encouraged and will be accepted for 30 days until September 3, 2024.

FOR FURTHER INFORMATION CONTACT: If you have comments especially on the estimated public burden or associated response time, suggestions, or need a copy of the proposed information collection instrument with instructions or additional information, please contact: Matt Durose (email: Matt.Durose@usdoj.gov; telephone: 202-598-0295), Bureau of Justice Statistics, 810 Seventh Street NW, Washington, DC 20531.

SUPPLEMENTARY INFORMATION: The proposed information collection was previously published in the Federal Register on May 21, 2024, allowing a 60-day comment period. BJS received one comment under the 60-day notice that is addressed in the full package submitted to OMB. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number [1121-0296]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Reinstatement, with change, of a previously approved collection for which approval has expired.

2. Title of the Form/Collection: 2023 Census of Medical Examiner and Coroner Offices (CMEC).

3. Agency form number, if any, and the applicable component of the Department of Justice sponsoring the collection: The form number is CMEC-1. The applicable component within the Department of Justice is the Bureau of Justice Statistics (BJS), in the Office of Justice Programs.

4. Affected public who will be asked or required to respond, as well as a brief abstract:Affected Public: Affected public are state and local government agencies. The 2023 CMEC is revised from the 2018 CMEC. BJS plans to field the 2023 CMEC from September 2024 through July 2025. Respondents will be the staff at MEC offices and Texas justices of the peace.

Abstract: The Bureau of Justice Statistics (BJS) 2023 Census of Medical Examiner and Coroner Offices (CMEC) will provide comprehensive statistics regarding the organizational structure, operations, policies and procedures, finances, and resources of the approximately 2,300 medical examiner and coroner (MEC) offices in 2023 nationwide. In the United States, medicolegal death investigations are provided by MEC offices whose purpose is to determine the cause and manner of death. As such, these offices are valuable, unique sources of information to many stakeholders, including the federal government, local law enforcement, the court system, the public health community, and families. The 2023 CMEC will generate an enumeration of the number and type of MEC offices operating in the United States in 2023, staff at these offices, budget and capital resources, workload, policies and procedures regarding casework, specialized death investigations, records and evidence retention, resources, and operations. The 2023 CMEC will be the third administration of the survey since 2004. To provide more comprehensive statistics on the nation's medicolegal death investigations outside of the traditional MEC offices, the 2023 CMEC will also include the approximately 700 justices of the peace in Texas that make cause and manner of death determinations but were out of scope for the 2004 and 2018 CMECs. The 2023 CMEC survey was assessed by a panel of practitioners and subject matter experts and revised to ensure content is up-to-date and relevant to the medicolegal death investigation system today. The survey has also been revised to improve clarity and ease of answering questions. The 2023 CMEC will extend the national understanding of medicolegal death investigations and complement BJS's data collections involving publicly funded forensic crime laboratories and law enforcement core statistics.

5. Obligation to Respond: The obligation to respond is voluntary.

6. Total Estimated Number of Respondents: A projected 3,000 respondents (including 2,300 MEC offices and 700 justices of the peace in Texas) will complete form CMEC-1. In addition, an estimated 1,500 respondents will be contacted for data quality follow-up at 15 minutes (.25 hours) per respondent.

7. Estimated Time per Respondent: CMEC-1 will take an average of 90 minutes (1.5 hours) for each of the 3,000 respondents to complete. In addition, an estimated 1,500 respondents will be contacted for data quality follow-up at 15 minutes (.25 hours) per respondent.

8. Frequency: Each respondent will complete the CMEC-1 once.

9. Total Estimated Annual Time Burden: The total burden hours for this collection is 4,875.

10. Total Estimated Annual Other Costs Burden: $1,296,618.

Total Burden Hours
Activity | Number of respondents | Frequency | Total annual responses | Time per response | Total annual burden (hours)
Survey | 3,000 | 1 | 3,000 | 90 min (1.5 hrs.) | 4,500
Data Quality Follow-Up | 1,500 | 1 | 1,500 | 15 min (.25 hrs.) | 375
Unduplicated Totals | 3,000 |  | 3,000 |  | 4,875

If additional information is required, contact: Darwin Arceo, Department Clearance Officer, Policy and Planning Staff, Justice Management Division, United States Department of Justice, Two Constitution Square, 145 N Street NE, 4W-218, Washington, DC 20530.

Dated: July 26, 2024.
Darwin Arceo,
Department Clearance Officer for PRA, U.S. Department of Justice.

[FR Doc. 2024-16903 Filed 7-31-24; 8:45 am]

BILLING CODE 4410-18-P